ENVIRONMENTAL PROTECTION AGENCY

[FRL-7449-6]

Financial Assistance for an Environmental Professional Intern Program

AGENCY: Environmental Protection Agency.

ACTION: Notice.

SUMMARY: The programmatic objective of this Environmental Professional Intern Program is to provide unique research training opportunities in cooperative study, applied research, research techniques, and developmental activities that would be of major benefit in advancing the number and diversity of environmental professionals in the workforce.

The U.S. Environmental Protection Agency (EPA) announces the availability of Federal Assistance to conduct an Environmental Professional Intern Program (Intern Program) to provide-on-the-job training for graduate and undergraduate students interested in careers in the environmental area. The need for wise stewardship of the Nation's environmental resources is increasing and with it a need to enlarge the pool of skilled environmental professionals while, at the same time, increasing the diversity of this pool. The EPA recognizes that there is a shortage of skilled environmental professionals. The programmatic objective of this Intern Program is to provide unique opportunities for cooperative study, research, and development that would increase the number and diversity of skilled engineers, scientists, policymakers, legal professionals, and managers in the environmental area.

This solicitation is to find a recipient organization to carry out this Intern Program. The student interns will be considered employees of the recipient organization rather than of the EPA during their training period. All student interns must be enrolled in an undergraduate or graduate program, or accepted into an undergraduate or graduate program that will commence within nine months of selection as a student intern. This recipient organization would be responsible for locating candidate interns, selecting the interns and administering the funding to the interns.

The EPA would identify the intern's opportunities at the Agency or at an EPA stakeholder facility, provide advice to the organization in the selection of the candidate interns, and provide space, technical guidance and training to the interns during their internship period at either an EPA facility or an EPA stakeholder facility. All projects awarded under this agreement must be of a research nature. They must relate to the detection, assessment, and evaluation of the effects on and risks to human health from hazardous substances and the detection of hazardous substances in the environment. The internships must be to conduct a survey or to research, collect, or analyze data which will be used to expand scientific knowledge or understanding of the subject studied. An example of an acceptable project would be to have the intern conduct an analysis of several communities using existing data from available databases and geographical information systems to determine demographics of the populations; numbers of facilities in the determined study area; types of emissions; quantities of specific chemicals; and other relevant data. The findings would be reported by the intern to his/her project advisor.

This program will start on or about June 17, 2003, for one year and may be renewed for two additional years.

DATES: Applications must be postmarked by U.S. Postal Service or date stamped by commercial courier service on or before 11:59 p.m., Eastern Time, April 17, 2003.

ADDRESSES: Applicants must submit one signed original plus two (2) copies of the application including all information required by the application kit.

By U.S. Postal Service: Linda K. Smith, EPA Intern Program, Office of Environmental Justice, U.S. Environmental Protection Agency, Mail Code—2201A, Washington, DC 20460.

By Federal Express, UPS, Airborne Express or other courier service: Linda K. Smith, EPA Intern Program, Office of Environmental Justice, U.S. Environmental Protection Agency, Room 2232 Ariel Rios Building—South, 1200 Pennsylvania Avenue NW., Washington, DC 20004, Telephone: 202-564-2602.

FOR FURTHER INFORMATION CONTACT: Linda K. Smith, U.S. EPA, Phone: 202-564-2602, E-mail: smith.linda@epa.gov, or by Fax: 202-501-1162.

SUPPLEMENTARY INFORMATION:

A. Background

The Environmental Professional Intern Program (Intern Program) is designed to provide undergraduate and graduate students from accredited universities and colleges with opportunities for environmental training experiences at EPA and other venues in which the student intern can receive a meaningful learning experience. The Intern Program will be managed by the Office of Environmental Justice. EPA managers at Headquarters, Regional Offices, and Laboratories will develop and sponsor new training or research projects that will further the student interns' understanding of environmental protection and health-related issues and abatement techniques. The projects are sufficiently narrow in scope to allow the student to complete the project in a 3-6 month period by working full-time during the summer and/or part-time during the school year. Students selected to receive an internship are awarded a stipend based on their level of education and length of the project period.

The EPA is expanding its institutional commitment to environmental stewardship and health protection. The Agency has identified several areas in which student interns would benefit by practical, on-the-job research-type training experiences. These areas include but are not limited to:

• Environmental Policy, Regulation, & Law—Training in this area includes participation in the research to develop background to review and evaluate existing policies and regulations, as well as to develop new policies.

• Environmental Management & Administration—This area focuses on the use of research techniques in how to implement and improve management goals or how to develop cooperative environmental management strategies.

• Environmental Science—This area focuses on the conduct of field studies and laboratory research.

• Public Relations and Communications—This broad category provides the intern with the opportunity to receive training in researching how public opinion affects environmental issues. The conduct of Internet surveys, developing tools for presentations, and presenting the findings in pamphlets to inform the public about environmental protection could be part of a training opportunity.

• Computer Programming and Development—The intern could research methods and develop computer programs for reaching different stakeholders.

A primary objective of the Intern Program is to support active stewardship of the environment, protection of the public health, and to sustain communities. The transfer of the EPA's technologies, techniques, and methods to the next generation of environmental professionals is to both increases their capability and to increase their diversity. This Intern Program offers unique opportunities to develop skills that can be transferred to interns through the establishment of this Internship Program. The award of this cooperative agreement will promote these objectives. All projects awarded under this agreement must relate to the detection, assessment, and evaluation of the effects on and risks to human health from hazardous substances and the detection of hazardous substances in the environment. The Internships awarded under this agreement must be of a research nature, i.e., survey, research, collecting and analyzing data which will be used to expand scientific knowledge or understanding of the subject studied. The statutes under which the U.S. EPA will conduct this Intern Program include:

1. Comprehensive Environmental Response, Compensation and Liability Act; Section 311: CERCLA, Section 311(c) authorizes the EPA to fund research grants.

2. Clean Water Act, Section 104(b)(3): Conduct and promote the coordination of research, investigations, experiments, training, demonstration, surveys, and studies relating to the causes, extent, prevention, reduction, and elimination of water pollution.

3. Safe Drinking Water Act, Sections 1442( b)(3): Develop, expand, or carry out a program (that may combine training, education, and employment) for occupations relating to the public health aspects of providing safe drinking water.

4. Solid Waste Disposal Act, Section 8001(a): Conduct and promote the coordination of research, investigations, experiments, training, demonstrations, surveys, public education programs, and studies relating to solid waste management and hazardous waste management.

5. Clean Air Act, Section 103(b)(3): Conduct and promote the coordination and acceleration of research, investigations, experiments, demonstrations, surveys, and studies related to the causes, effects (including health and welfare effects), extent, prevention, and control of air pollution.

6. Toxic Substances Control Act, Section 10(a): Conduct research, development, and monitoring activities on toxic substances.

7. Federal Insecticide, Fungicide, and Rodenticide Act, Section 20(a): Conduct research on pesticides.

8. Marine Protection, Research, and Sanctuaries Act, Section 203: Conduct research, investigations, experiments, training, demonstrations, surveys, and studies relating to the minimizing or ending of ocean dumping of hazardous materials and the development of alternatives to ocean dumping.

B. Catalog of Federal Domestic Assistance (CFDA)

This EPA Intern Program is listed in the Catalog of Federal Domestic Assistance as No. 66.607 Training and Fellowships for the Environmental Protection Agency.

C. Program Description

The objective of the program is to provide research training opportunities to students interested in pursuing environmental careers. The proposed cooperative program will be administered by a single recipient in response to EPA-approved and funded intern opportunities at EPA locations, or at other EPA-approved locations of other Federal organizations or non-Federal organizations where the opportunity exists for students to participate in research training in environmental protection.

In cooperation with the EPA, the recipient will select and employ student interns to work on individual projects in response to internship opportunities established by the program offices within the EPA. Interns are not EPA employees but are employed by the recipient. The recipient, in cooperation with the EPA, will develop an orientation program that will explain the intern's roles, responsibilities, and limitations. The interns must be undergraduate students, graduate students, or college graduates who have been accepted into graduate programs and will begin their studies within 9 months of accepting an internship position. There is no specific course requirement for an intern but some preferred study areas include environmental science, earth science, environmental engineering, geodesy, chemistry, physics, oceanography, biology, fishery science, geography, resource economics, risk assessment, policy analysis, computer science, and law.

The EPA Code of Federal Regulations, 40 CFR 45.135(a), states that “Trainees must be citizens of the United States, its territories, or possessions, or lawfully admitted to the United States for permanent residence.”

All internship projects will be carried out under a written research training plan with the technical guidance of a technical advisor from the EPA or other EPA-approved sponsoring organization. These projects must be designed to provide learning experiences for the interns that will make them competitive for employment opportunities in both the public and private sectors. Final details for individual training plans will be developed by the recipient in consultation with the individual technical advisor in accordance with the “Statement of Substantial Involvement between EPA and the Recipient” described below.

The maximum period that an intern may participate in the Intern Program on a full or part time basis with funding from the EPA is six months. The EPA may fund one additional three-month extension of an internship to enable the intern to complete a project.

The recipient, under other funding agreements, may establish other environmental protection internship opportunities with organizations other than the EPA. The EPA may choose to fund and sponsor these other internships or the recipient can obtain sponsorship or funding from non-EPA sources. Please note that under OMB Circular A-122 applicable to assistance agreements with nonprofit organizations, general fund-raising costs are not allowable.

There is no fixed number of internships per year under this program. The actual number will depend on opportunities and funding identified by offices within the EPA.

Internships may be located at the EPA or at facilities of other organizations with missions relating to environmental protection. If interns are required to relocate to either location for any portion of the internship, the EPA will provide financial assistance to the recipient in an amount up to $500 to offset the intern's relocation expenses. The finding of local housing and payment of housing costs is the responsibility of the intern. Interns will be provided individual project assignments for each internship.

Under this Cooperative Agreement, the Recipient will make extra effort in advertising and promoting the availability of internships at Minority Serving Institutions, emphasizing Native Americans, Hispanic Americans, African Americans, Asian Americans, and women.

D. Definitions

1. Student Intern—Individual trainee who will be provided with and perform internships under this cooperative agreement.

2. Project Officer—The EPA Project Officer is that individual specifically named by the EPA to manage this program.

3. Technical Advisor—The EPA employee responsible for providing technical guidance on the specific project(s) assigned to the intern and for monitoring the intern's individual development and progress. Because the student interns will be employees of the recipient organization, EPA technical advisors do not provide day-to-day supervision of student interns but they do oversee the work.

4. Intern Opportunity/Project—An opportunity for an internship which is documented and has funds obligated for its costs. In general, these opportunities will be assignments within existing EPA programs and ongoing projects and will be performed at the site of an EPA facility. In some cases, the assignment may involve a project at locations other than an EPA facility such as a community organization facility; a nonprofit organization facility; or a local government, state government, or tribal government facility.

5. Travel Expenses of Interns—All travel expense must be paid by the recipient. No EPA travel funds can be used. The funds will be included as part of the original funding to the Recipient at the time the internship project is initiated or at a later date by way of an amendment to the cooperative agreement. The EPA will provide travel and transportation for any intern assigned to EPA projects requiring field work as documented in the description of the Intern Opportunity and the Intern's training plan. Interns will complete Recipient's travel approval form prior to each trip, complete a travel reimbursement form at the conclusion of each trip, and a travel results report at the conclusion of each trip for the Recipient. The U.S. EPA Technical Advisor will sign all forms to acknowledge the trip is consistent with the intern's training plan prior to any action by the Recipient. Travel advances for interns will be available from the Recipient as needed. All travel and transportation required for field work will be paid by the Recipient out of funds included in the intern's amendment to the agreement.

6. Training Expenses of Interns—All training expense must be paid by the recipient. No EPA training funds can be used. The funds will be included as part of the original funding to the Recipient at the time the internship project is initiated or at a later date by way of an amendment to the cooperative agreement. The EPA will provide training for any intern when it is decided by the Technical Advisor that training is appropriate. The need for the training must be requested by the intern, approved by the Technical Advisor, prior to requesting the recipient to pay for the training expense. Interns will complete Recipient's training approval form prior to registration. When possible, the Recipient will pay for the training rather than requiring the intern to pay. When necessary, the intern may be asked to pay and then to complete a training reimbursement form at the conclusion, and a training results report at the conclusion of the event for the Recipient. The U.S. EPA Technical Advisor will sign all forms to acknowledge the training is consistent with the intern's training plan prior to any action by the Recipient. All training will be paid by the Recipient out of funds included in the individual intern's amendment to the original agreement.

E. Maximum EPA Financial Participation in Stipends (Per Week) and General Background Requirements of Internships

1. $450 ($11.25/hr): 1-4 full years of academic study.

2. $550 ($13.75/hr): Undergraduate degree and acceptance in graduate school

3. $650 ($16.25/hr): Undergraduate Degree and superior academic standard (top 1/3, 2.9/4 GPA overall, & 3.5/4 GPA in Major) and accepted into graduate school.

4. $750 ($18.75/hr): Completed 60 hrs Graduate level or completed Masters or law degree and accepted into PhD or L.L.M. program.

Overtime pay is not allowed. In the event that overtime is required, the duration of the internship will be reduced or additional funds will be obligated or compensatory time will be given in lieu of overtime pay to compensate for it.

In the event that an intern voluntarily terminates or is terminated by the recipient for cause (e.g., failing to carry out his or her training plan or engaging in disruptive behavior), the Recipient will make every effort to select another intern and, if not practicable, advises the EPA to de-obligate the remaining funds committed for the internship.

F. Funding Availability

The EPA funding for this Program will be a minimum of $500,000 during the first year. The amount of funding for the second and third years is indefinite but can be as much as $2 million each year. Each internship or group of internships, beyond the first, will be funded as a separate amendment to the master agreement. There is no set timetable for announcement of internships and they may occur throughout the year, depending on the EPA's programmatic decisions.

Matching Requirements—Cost sharing is not required for the internship program.

Type of Funding Instrument—The Environmental Protection Intern Program will be awarded as a Cooperative Agreement since the EPA anticipates that there will be substantial involvement between the EPA, the Recipient, and the Interns (after their selection).

G. Statements of Substantial Involvement Between U.S. EPA and the Recipient

In carrying out the work program set forth in the project description, EPA and the Recipient agree to meet the programmatic objective of this agreement: The programmatic objective of this intern program is to provide unique research training opportunities in cooperative study, applied research, research techniques, and developmental activities that would be of major benefit in advancing the number and diversity of environmental professionals. EPA involvement will consist of the following activities:

1. The EPA will provide descriptions of available student intern opportunities including academic background and prior work experience that would make the internship experience meaningful to the student.

2. EPA personnel will discuss internship opportunities with prospective interns and provide advice to the recipient relating to the “fit” between a prospective intern's academic background and work experience and the project available under the internship opportunity. However, EPA personnel will not select or make offers to prospective interns.

3. After considering the EPA's advice, and making its own assessment of the fit between a prospective intern's qualifications and interests and the internship opportunity, the Recipient is responsible for selecting the intern, making the offer of the internship, and arranging an orientation program and start date.

4. The recipient and the EPA will collaboratively develop the student intern's training plan. The EPA will provide a technical advisor to interact with each student intern as the intern carries out his or her training plan. The technical advisor shall provide technical guidance and support to the intern in developing the skills necessary to perform the work in the chosen environmental area and monitor the intern's progress towards completing his or her training plan. However, the EPA's technical advisor will not supervise the intern.

5. The EPA will provide liaison to interact with the Recipient and Senior Management on the progress of meeting the programmatic objectives of this Cooperative Agreement.

H. Eligibility Criteria

Any nonprofit organization as described in OMB Circular A-122 may submit a proposal. Please note that there are restrictions on the extent to which the EPA can award financial assistance to organizations described by section 501(c)(4) of the Internal Revenue Code who engage in lobbying.

I. Award Period

The initial Master Agreement will be for a period of up to three (3) years. The EPA will consider continued funding for the project beyond the first year upon: (a) Satisfactory progress toward the stated agreement goals, and the determination by the EPA that the continuation of the program would be in the best interest of the Government; and (b) availability of funds. This submission in no way obligates the EPA to extend this agreement, nor is this paragraph to be interpreted as a promise that future funds will be available. Stipend levels, and benefits may be adjusted for Cost of Living Allowances for each continuation year.

Multiple awards may be made from this announcement.

J. Administrative Costs

Funds to support the environmental professional intern program will be given directly to the Recipient. Administrative costs will be negotiated as part of the Master Agreement award and will be based on and paid on a per internship basis. These costs may be fixed, time dependent, intern stipend dependent, or a combination as proposed by the Recipient.

K. Indirect Costs

The total dollar amount of the indirect costs proposed in an application under this program must not exceed the indirect cost rate negotiated and approved by a cognizant Federal agency prior to the proposed effective date of the award or 100 percent of the total proposed direct costs dollar amount in the application, whichever is less.

L. Application Requirements

Each Prospective Recipient will submit a package containing completed:

1. SF-424 (including SF-424A & SF-424B),

2. A budget with necessary supporting details. This budget should be based on a hypothetical intern opportunity at a stipend level of $550 per week, with an allowance for required field trip travel of $2,000, and a relocation allowance of $500. Because it is anticipated that this agreement will be extended to include additional internships beyond the first, supporting information should be included to determine the full cost to the government of additional internships which may have any of the suggested stipend levels, have durations ranging from 12 weeks (3 month summer intern) to 26 weeks (6 months), to 38 weeks (9 months), and be with or without relocation or travel allowances. This information should also contain details on what services and benefits are included ( i.e., sick leave, tax withholding, insurance, etc.) and their estimated cost to interns; as well as, what, if any, allowances are made for vacation leave and/or sick leave. Holidays observed by the office hosting the intern will be considered paid holidays.

3. Curriculum Vitae for each individual and critical senior staff assigned to the program.

4. Copy of a current approved Negotiated Indirect Cost Rate Agreement.

5. SF-LLL “Disclosure of Lobbying Activities”.

6. “Certifications Regarding Lobbying Activities”.

7. EPA Form 5700-49 “Certification Regarding Debarment, Suspension, and Other Responsibility Matters”.

8. Proof of Status for First Time Eligible Non-Profit Applicants.

9. EPA Form 4700-4 “Preaward Compliance Review report for All Applicants. * * * ”

10. A narrative description of the applicant's proposed plan for carrying out its environmental professional internship program. This narrative will include:

(a) A description of the Intern Program, how they would implement it and conduct its operation. Alternatives and variations with regard to the timing of items 4 and 5 within the G. Statements of Substantial Involvement between U.S. EPA and the Recipient detailed above may be proposed.

(b) Proposed method of advertising for and pre-screening candidate Interns and supervising interns as they carry out their training plans.

(c) Proposed benefits offered to Interns (e.g., tax withholding, health insurance, liability insurance, workman's compensation, etc.) as employees of the applicant.

(d) Past history of the prospective Recipient in carrying out similar programs, and how carrying out the environmental professional internship program will further the applicant's mission.

(e) Ability to use the Internet for all aspects of the intern program.

Application Forms and Kit

The Grant Application Kit can be obtained by calling 202-564-5310. It is also available in PDF format at http://www.epa.gov/ogd/AppKit/index.htm

Project Funding Priorities

The responsiveness of the application to the programmatic objectives of the Intern program as noted in the Summary section and restated in the Type of Funding Instrument section above will be considered in the evaluation process.

M. Evaluation Criteria

The proposals from applicants will be evaluated according to these evaluation factors. Your application must be complete to be considered.

• Description of the intern program, alternatives and variations with regard to timeliness of receiving a request for, and the placement of, an intern. (20)

• Proposed method of advertising for and pre-screening candidate interns, supervising interns as they carry out their training plans. (15)

• Proposed benefits (health insurance, workman's compensation, etc.) to interns. (15)

• Experience of applicant in managing a national program where students are recruited from various universities and colleges throughout the U.S. Past history of the recipient in carrying out similar programs, and how carrying out the internship program will further the recipient's mission. (40)

• Ability to use the internet for all aspects of the intern program. (10)

N. Selection Procedures

Each application will receive an independent, objective review by a panel qualified to evaluate the applications submitted. The Independent Review Panel, consisting of at least three individuals in addition to the EPA Federal Program Officer, will review, evaluate, and rank all applications based on the criteria stated above. The final decision on an award will be based upon the panel's overall ranking of the applications and a determination by the EPA Selecting Official that the Recipient's application meets the Project Funding Priorities.

O. Other Requirements

1. Federal Policies and Procedures

Recipients are subject to all Federal laws and Federal and EPA policies, regulations, and procedures applicable to Federal financial assistance awards.

2. Past Performance

Unsatisfactory performance under prior Federal awards will be considered in evaluating an applicant's proposal.

3. Preaward Activities

If applicants incur any costs prior to an award being made, they do so solely at their own risk of not being reimbursed by the Government. Notwithstanding any verbal or written assurance that may have been received, there is no obligation on the part of the EPA to cover preaward costs except to the extent authorized at 40 CFR 30.25(f).

4. No Obligation for Future Funding

If an application is selected for funding, the EPA has no obligation to provide any additional future funding in connection with the award. Renewal of an award to increase funding or extend the period of performance is at the total discretion of the EPA.

5. Delinquent Federal Debts

No award of Federal funds will be made to an applicant who has an outstanding delinquent Federal debt until either:

i. The delinquent account is paid in full,

ii. A negotiated repayment schedule is established and at least one payment is received, or

iii. Other arrangements satisfactory to the EPA are made.

6. Name Check Review

All nonprofit applicants are subject to a name check review process. Name checks are intended to reveal if any key individuals associated with the applicant have been convicted of or are presently facing criminal charges such as fraud, theft, perjury, or other matters which significantly reflect on the applicant's management honesty or financial integrity. Key individuals cannot be currently suspended, debarred, or otherwise ineligible from participating in Federal financial assistance.

7. Primary Applicant Certifications

All primary applicants must submit a completed form CD-511, “Certifications Regarding Debarment, Suspension and Other Responsibility Matters; Drug-free Workplace Requirements and Lobbying,” and the following explanations are hereby provided:

i. Nonprocurement Debarment and Suspension. Prospective participants (as defined at 15 CFR part 26, § 105) are subject to 15 CFR part 26, “Nonprocurement Debarment and Suspension” and the related section of the certification form prescribed above applies;

ii. Drug-Free Workplace. Recipients (as defined at 15 CFR part 26, § 605) are subject to 15 CFR part 26, subpart F, “Government requirements for Drug-Free Workplace (Grants)” and related section of the certification form prescribed above applies;

iii. Anti-Lobbying. Persons (as defined at 15 CFR part 26, § 105) are subject to the lobbying provisions of 31 U.S.C. 1352, “Limitations on use of appropriated funds to influence certain Federal contracting and financial transactions,” and the lobbying section of the certification form prescribed above applies to applications/bids for grants, cooperative agreements, and contracts for more than $100,000 * * * ”

iv. Anti-Lobbying Disclosures. Any applicant that has paid or will pay for lobbying using any funds must submit an SF-LLL, “Disclosure of Lobbying Activities,” as required under 15 CFR part 28, appendix B.

8. False Statements

A False statement on an application is grounds for denial or termination of funds and grounds for possible punishment by a fine or imprisonment as provided in 18 U.S.C. 1001.

9. Intergovernmental Review

Applications under this program are not subject to executive Order 12372, “Intergovernmental Review of Federal Programs.”

10. Paperwork Reduction

Notwithstanding any other provision of law, no person is required to respond to nor will a person be subject to a penalty for failure to comply with a collection of information subject to the requirements of the Paperwork Reduction Act unless that collection of information displays a current valid OMB control number.

11. Dispute Resolution Process

Any disputes concerning the award of this agreement will be handled in accordance with 40 CFR 30.63 and part 31, subpart F.

12. Confidential Business Information

Applicants should clearly mark information considered confidential, and the EPA will make final confidentiality decisions in accordance with Agency regulations at 40 CFR part 2, subpart B.

P. Restrictions

Short-Term Training—This is a short term training program for students. Interns will not be used to replace EPA employees formerly employed under the Office of Personnel Management student appointing authorities, to replace temporary or term appointments, or to replace or fill-in for full or part-time EPA positions vacated by the Voluntary Separation Program or Reduction in Force. Participants will not be selected or used to perform personal services. The Recipient and the Agency shall avoid any actions that create the appearance that the intern is a Federal employee or is being used by the EPA to obtain personal services. This would circumvent the civil service laws and reflect negatively on EPA staff using this participant in this manner. The relationship between the Recipient and Interns is that of Employer and Employees. The Recipient must provide a health benefits option, must deduct applicable state and federal taxes, and is responsible for payment, discipline, leave approval, termination, etc. for each Intern. Nothing in this agreement or its supplements will be deemed to create an employer-employee relationship between the EPA and an Intern. All interns must qualify as students to participate in the program.

Former EPA Employee Restrictions—Former EPA employees are not eligible for this program within two years of employment at the EPA. Former EPA employees must qualify as students to participate in the program.

Dated: February 4, 2003.
Barry E. Hill,
Director, Office of Environmental Justice.

[FR Doc. 03-3238 Filed 2-7-03; 8:45 am]

BILLING CODE 6560-50-P